DEPARTMENT OF ENERGY

10 CFR Part 431

[Docket No. EERE-2008-BT-STD-0015]

RIN 1904-AB86

Energy Conservation Program: Public Meeting and Availability of the Preliminary Technical Support Document for Walk-In Coolers and Walk-In Freezers; Correction and Date Change

AGENCY: Office of Energy Efficiency and Renewable Energy, Department of Energy.

ACTION: Date changes and corrections.

SUMMARY: The U. S. Department of Energy (DOE) published a document in the Federal Register on April 5, 2010, concerning a public meeting and availability of the preliminary technical support document regarding energy conservation standards for walk-in coolers and walk-in freezers. This document corrects the docket number in that document and corrects the rulemaking e-mail address. This document also changes the dates of the public meeting, the deadline for requesting to speak at the public meeting, and the deadline for submitting written comments on the preliminary analysis.

FOR FURTHER INFORMATION CONTACT: Mr. Charles Llenza, U.S. Department of Energy, Building Technologies Program, EE-2J, 1000 Independence Avenue, SW., Washington, DC 20585-0121, (202) 586-2192, Charles.Llenza@ee.doe.gov or Mr. Michael Kido, Esq., U.S. Department of Energy, Office of General Counsel, GC-71, 1000 Independence Avenue, SW., Washington, DC 20585-0121, (202) 586-8145, Michael.Kido@hq.doe.gov.

DATES: DOE will hold a public meeting in Washington, DC on Wednesday, May 19, 2010, beginning at 9 a.m. DOE must receive requests to speak at the meeting before 4 p.m., Wednesday, May 5, 2010. DOE must receive a signed original and an electronic copy of statements to be given at the public meeting before 4 p.m., Wednesday, May 12, 2010. Written comments are welcome, especially following the public meeting, and should be submitted by Friday, May 28, 2010.

ADDRESSES: The public meeting will be held at the U.S. Department of Energy, Forrestal Building, Room 8E-089, 1000 Independence Avenue, SW., Washington, DC 20585-0121. To attend the public meeting, please notify Ms. Brenda Edwards at (202) 586-2945. Please note that foreign nationals participating in the public meeting are subject to advance security screening procedures, requiring a 30-day advance notice. If you are a foreign national and wish to participate in the public meeting, please inform DOE as soon as possible by contacting Ms. Brenda Edwards at (202) 586-2945 so that the necessary procedures can be completed. Interested persons may submit comments, identified by docket number EERE-2008-BT-STD-0015, by any of the following methods:

• Federal eRulemaking Portal: http://www.regulations.gov Follow the instructions for submitting comments.

• E-mail: WICF-2008-STD-0015@ee.doe.gov; Include EERE-2008-BT-STD-0015 in the subject line of the message.

• Postal Mail: Ms. Brenda Edwards, U.S. Department of Energy, Building Technologies Program, Mailstop EE-2J, Public Meeting for Walk-in Coolers and Walk-in Freezers, EERE-2008-BT-STD-0015, 1000 Independence Avenue, SW., Washington, DC 20585-0121. Telephone (202) 586-2945. Please submit one signed paper original.

• Hand Delivery/Courier: Ms. Brenda Edwards, U.S. Department of Energy, Building Technologies Program, Sixth Floor, 950 L'Enfant Plaza, SW., Washington, DC 20024. Telephone (202) 586-2945. Please submit one signed paper original.

Instructions: All submissions received must include the agency name and docket number.

Docket: For access to the docket to read background documents or a copy of the transcript of the public meeting or comments received, go to the U.S. Department of Energy, Sixth Floor, 950 L'Enfant Plaza, SW., Washington, DC 20024, (202) 586-2945, between 9 a.m. and 4 p.m., Monday through Friday, except Federal holidays. Please call Ms. Brenda Edwards at (202) 586-2945 for additional information regarding visiting the Resource Room.

SUPPLEMENTARY INFORMATION: DOE published a notice in the Federal Register on April 5, 2010, (75 FR 17080) concerning a public meeting and availability of the preliminary technical support document regarding energy conservation standards for walk-in coolers and walk-in freezers. This notice corrects the docket number in that notice to EERE-2008-BT-STD-0015 and corrects the rulemaking e-mail address in that notice to WICF-2008-STD-0015@ee.doe.gov.

This notice also changes the date of the public meeting, the date of the deadline for requesting to speak at the public meeting, and the date of the deadline for submitting written comments on the preliminary analysis. The public meeting will now be held on Wednesday, May 19, 2010, beginning at 9 a.m. The close of the comment period has been changed to Friday, May 28, 2010, in order to accommodate comments received at the public meeting and comments that may be submitted based on issues raised at the public meeting. Interested parties are directed to submit their comments to the rulemaking e-mail address, WICF-2008-STD-0015@ee.doe.gov, with instructions to include docket number EERE-2008-BT-STD-0015.

The purpose of the meeting is to discuss the preliminary analysis for standards for walk-in coolers and walk-in freezers. The Department welcomes all interested parties, regardless of whether they participate in the public meeting, to submit written comments regarding matters addressed in the preliminary analysis, as well as any other related issues, by May 28, 2010.

Issued in Washington, DC, on April 8, 2010.
Cathy Zoi,
Assistant Secretary, Energy Efficiency and Renewable Energy.

[FR Doc. 2010-8499 Filed 4-13-10; 8:45 am]

BILLING CODE 6450-01-P